FEDERAL EMERGENCY MANAGEMENT AGENCY

Agency Information Collection Activities: Submission for OMB Review; Comment Request

ACTION: Notice and request for comments.

SUMMARY: The Federal Emergency Management Agency has submitted the following proposed information collection to the Office of Management and Budget for review and clearance in accordance with the requirements of the Paperwork Reduction Act of 1995 (44 U.S.C. 3507).

Title: Application Form for Single Lot or Structural Amendments to National Flood Insurance Program Maps.

Type of Information Collection: Revision of a Currently Approved Collection.

OMB Number: 3067-0257.

Abstract: FEMA Form 81-92 is designed to assist requesters in gathering information that FEMA needs to determine whether a certain single-lot property or structure is likely to be flooded during a flood event that has a one-percent annual change of being equaled or exceeded in any given year (base flood). FEMA Form 81-92A is a Spanish version of FEMA Form 81-92 and, as such, only one of the two formas would be required for any one application.

Affected Public: Individual or Households, Business or Other For-Profit, and State, Local or Tribal Government.

Number of Respondents: 9,000.

Estimated Time per Respondent: FEMA Form 81-92, 2.4 hours and FEMA Form 81-92A, 2.4 hours.

Estimated Total Annual Burden Hours: 21,600 hours.

Frequency of Response: On Occasion.

Comments: Interested persons are invited to submit written comments on the proposed information collection to the Desk Officer for the Federal Emergency Management Agency, Office of Information and Regulatory Affairs, Office of Management and Budget, Washington, DC 20503 within 30 days of the date of this notice.

FOR FURTHER INFORMATION CONTACT: Requests for additional information or copies of the information collection should be made to Muriel B. Anderson, Chief, Records Management Section, Program Services and Systems Branch, Facilities Management and Services Division, Administration and Resource Planning Directorate, Federal Emergency Management Agency, 500 C Street, SW, Room 316, Washington, DC 20472, telephone number (202) 646-2625 or facsimile number (202) 646-3347, or e-mail muriel.anderson@fema.gov.

Dated: February 27, 2002.
Reginald Trujillo,
Branch Chief, Program Services and Systems Branch, Facilities and Services Management Division, Administration and Resource Planning Directorate.

[FR Doc. 02-5159 Filed 3-4-02; 8:45 am]

BILLING CODE 6718-01-P